DEPARTMENT OF THE INTERIOR

Fish and Wildlife Service

[FWS-R9-IA-2011-0087; FF09A30000 FXIA16710900000 134]

Conference of the Parties to the Convention on International Trade in Endangered Species of Wild Fauna and Flora (CITES); Sixteenth Regular Meeting; Tentative U.S. Negotiating Positions for Agenda Items and Species Proposals Submitted by Foreign Governments and the CITES Secretariat

AGENCY: Fish and Wildlife Service, Interior.

ACTION: Notice.

SUMMARY: We, the United States, as a Party to the Convention on International Trade in Endangered Species of Wild Fauna and Flora (CITES), will attend the sixteenth regular meeting of the Conference of the Parties to CITES (CoP16) in Bangkok, Thailand, during March 3-14, 2013. This notice announces the availability of tentative U.S. negotiating positions on amendments to the CITES Appendices (species proposals), draft resolutions and decisions, and agenda items submitted by other countries and the CITES Secretariat for consideration at CoP16.

ADDRESSES: Copies of tentative U.S. negotiating positions on amendments to the CITES Appendices (species proposals), draft resolutions and decisions, and agenda items submitted by other countries and the CITES Secretariat for consideration at CoP16 are available:

• Electronically at: http//www.regulations.gov at Docket No. FWS-R9-IA-2011-0087, or on our Web site at http://www.fws.gov/international/cites/cop16/index.html;

• By email request to: managementauthority@fws.gov; or

• By postal mail or in person, by appointment, at: Division of Management Authority, U.S. Fish and Wildlife Service, 4401 North Fairfax Drive, Room 212, Arlington, VA 22203.

FOR FURTHER INFORMATION CONTACT: For information pertaining to resolutions, decisions, and agenda items contact: Robert R. Gabel, Chief, Division of Management Authority; telephone, 703-358-2095; email, managementauthority@fws.gov. For information pertaining to species proposals contact: Dr. Rosemarie Gnam, Chief, Division of Scientific Authority; telephone, 703-358-1708; email, scientificauthority@fws.gov.

SUPPLEMENTARY INFORMATION:

Background

The Convention on International Trade in Endangered Species of Wild Fauna and Flora, referred to here as CITES or the Convention, is an international treaty designed to control and regulate international trade in certain animal and plant species that are now or potentially may become threatened with extinction. These species are listed in Appendices to CITES, which are available on the CITES Secretariat's Web site at http://www.cites.org/eng/app/index.php. Currently (as of January 29, 2013), 177 countries, including the United States, are Parties to CITES. The Convention calls for a meeting of the Conference of the Parties at least once every 2 years to review its implementation, make provisions enabling the CITES Secretariat to carry out its functions, consider amendments to the lists of species in Appendices I and II, consider reports presented by the Secretariat, and make recommendations for the improved effectiveness of CITES. Any country that is a Party to CITES may propose amendments to Appendices I and II, and draft resolutions, decisions, and agenda items for consideration by all the Parties. Accredited nongovernmental organizations (NGOs) may participate in the meeting as approved observers and may speak during sessions when recognized by the meeting Chairman, but they may not vote or submit proposals.

This is our seventh in a series of Federal Register notices on the development of U.S. submissions and tentative negotiating positions for CoP16. In this notice, we announce the availability of tentative U.S. negotiating positions on species proposals, draft resolutions and decisions, and agenda items submitted by other Parties and the Secretariat for consideration at CoP16. The ADDRESSES section, above, explains how to obtain a copy of all of this information. We published our first CoP16-related Federal Register notice on June 14, 2011 (76 FR 34746), and with it we requested information and recommendations on species proposals for the United States to consider for submission to CoP16, and we also outlined our approach for the meeting. We published our second CoP16-related Federal Register notice on November 7, 2011 (76 FR 68778), and with it we requested information and recommendations on resolutions, decisions, and agenda items for the United States to consider submitting for consideration at CoP16. We published our third such Federal Register notice on April 11, 2012 (77 FR 21798), and with it we announced taxa that the United States was considering submitting for consideration at CoP16. In our fourth Federal Register notice, published on June 21, 2012 (77 FR 37433), we informed the public of proposed resolutions, decisions, and agenda items that we were considering for submission for CoP16. This notice took into account all public comments received in response to the Federal Register notice published on November 7, 2011. In our fifth Federal Register notice, published on November 9, 2012 (77 FR 67390), we announced the provisional agenda for CoP16, solicited comments on the items on the provisional agenda, and announced a public meeting for December 5, 2012. In our sixth Federal Register notice, published on November 28, 2012 (77 FR 71012), we announced a revised date for the public meeting: December 13, 2012.

You may obtain information on the above Federal Register notices from the following sources. For information on draft resolutions and decisions, and agenda items, contact the Division of Management Authority (see FOR FURTHER INFORMATION CONTACT, above); and for information on species proposals, contact the Division of Scientific Authority, U.S. Fish and Wildlife Service; 4401 North Fairfax Drive; Room 110; Arlington, VA 22203; telephone 703-358-1708; email, scientificauthority@fws.gov. Our regulations governing this public process are found in 50 CFR 23.87. Pursuant to 50 CFR 23.87(a)(3)(iii), with this notice we are posting on http://www.regulations.gov (see Docket No. FWS-R9-IA-2011-0087) and on our Web site (http://www.fws.gov/international/publications-and-media/federal-register-notices.html) a summary of our proposed negotiating positions on the items included in the CoP16 agenda and proposed amendments to the Appendices, and the reasons for our proposed positions.

Tentative Negotiating Positions

On http://www.regulations.gov (see Docket No. FWS-R9-IA-2011-0087) and on our Web site (http://www.fws.gov/international/publications-and-media/federal-register-notices.html), we summarize the tentative U.S. negotiating positions on proposals to amend the Appendices (species proposals), draft resolutions and decisions, and agenda items that have been submitted by other countries and the CITES Secretariat. Documents submitted by the United States either alone or as a co-proponent for consideration by the Parties at CoP16 can be found on the Secretariat's Web site at: http://www.cites.org/eng/cop/16/doc/index.php. Those documents are: CoP16 Doc. 40 and (co-sponsored with Botswana and South Africa) Doc. 52. The United States, either alone or as a co-proponent, submitted the following proposals to amend Appendices I and II: CoP16 Props. 3, 28-32, 36-38, 42, 53, and 57. We will not provide any additional explanation of the U.S. negotiating positions for documents and proposals that the United States submitted. The introduction in the text of each of the documents the United States submitted contains a discussion of the background of the issue and the rationale for submitting the document.

Available Information on CoP16

Information concerning the results of CoP16 will be available after the close of the meeting on the Secretariat's Web site at http://www.cites.org; or upon request from the Division of Management Authority (see FOR FURTHER INFORMATION CONTACT, above); or on our Web site (http://www.fws.gov/international/cites/cop16/index.html).

Author

This notice was prepared by Bruce J. Weissgold, Division of Management Authority.

Authority

This notice is published under the authority of the U.S. Endangered Species Act of 1973, as amended (16 U.S.C. 1531 et seq.).

Dated: February 21, 2013.
Rowan W. Gould,
Acting Director, U.S. Fish and Wildlife Service.

[FR Doc. 2013-04573 Filed 2-27-13; 8:45 am]

BILLING CODE 4310-55-P